NUCLEAR REGULATORY COMMISSION

[NRC-2008-0506]

Notice of Issuance of Regulatory Guide

AGENCY: Nuclear Regulatory Commission.

ACTION: Notice of Issuance and Availability of Regulatory Guide 3.52, Revision 2.

FOR FURTHER INFORMATION CONTACT: Breeda Reilly, U.S. Nuclear Regulatory Commission, Washington, DC 20555-0001, telephone (301) 492-3110 or e-mail to Breeda.Reilly@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 3.52, “Standard Format and Content for the Health and Safety Sections of License Renewal Applications for Uranium Processing and Fuel Fabrication,” was issued with a temporary identification as Draft Regulatory Guide, DG-3031. This guide directs the reader to the type of information acceptable to the NRC in its evaluation and verification of the safety basis for the licensing of special nuclear material (SNM). It references the application of NUREG-1520, “Standard Review Plan for the Review of a License Application for a Fuel Cycle Facility,” issued March 2002, to the format and content of license renewal applications for fuel cycle facilities.

The regulatory framework that the NRC has established for procedures and criteria for the licensing of SNM is set forth in Title 10, Part 70, “Domestic Licensing of Special Nuclear Material,” of the Code of Federal Regulations (10 CFR part 70). In 10 CFR 70.73, “Renewal of Licenses,” the regulations specify that applications for license renewal (including licenses for enriched uranium processing, fuel fabrication, uranium enrichment, enriched uranium hexafluoride conversion, plutonium processing, fabrication of mixed-oxide fuel, and scrap recovery of SNM) must be filed in accordance with 10 CFR 2.109, “Effect of Timely Renewal Application;” 10 CFR 70.21, “Filing;” 10 CFR 70.22, “Contents of Applications;” 10 CFR 70.33, “Renewal of Licenses;” 10 CFR 70.38, “Expiration and Termination of Licenses and Decommissioning of Sites and Separate Buildings or Outdoor Areas;” and 10 CFR 70.65, “Additional Content of Applications.”

II. Further Information

In September 2008, DG-3031 was published with a public comment period of 60 days from the issuance of the guide. The public comment period closed on November 10, 2008. The staff's responses to the comments received are located in NRC's Agencywide Documents Access and Management System (ADAMS) under accession number ML091050072. Electronic copies of Regulatory Guide 3.52, Revision 2 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 26th day of May, 2009.
For the Nuclear Regulatory Commission.
R.A. Jervey,
Acting Chief, Regulatory Guide Development Branch, Division of Engineering, Office of Nuclear Regulatory Research.

[FR Doc. E9-12891 Filed 6-2-09; 8:45 am]

BILLING CODE 7590-01-P